DEPARTMENT OF HEALTH AND HUMAN SERVICES

Administration for Children and Families

Proposed Information Collection Activity; Comment Request

Proposed Projects

Title: 45 CFR 303.7—Provision of Services in Intergovernmental IV-D; Federally Approved Forms.

OMB No.: 0970-0085.

Description: Public Law 104-193, the Personal Responsibility and Work Opportunity Reconciliation Act of 1996, amended 42 U.S.C. 666 to require State Child Support Enforcement (CSE) agencies to enact the Uniform Interstate Family Support Act (UIFSA) into State law by January 1, 1998. Section 311(b) of UIFSA requires the States to use forms mandated by Federal law. 45 CFR 303.7 also requires child support programs to use federally-approved forms in intergovernmental IV-D cases unless a country has provided alternative forms as a part of its chapter in a Caseworker's Guide to Processing Cases with Foreign Reciprocating Countries.

Respondents: State agencies administering a child support program under title IV-D of the Social Security Act.

Annual Burden Estimates
Instrument | Number of respondents | Number of responses per respondent | Average burden hours per response | Total burden hours
Transmittal 1 | 54 | 19,392 | 0.25 | 261,790.25
Transmittal 2 | 54 | 14,544 | 0.08 | 62,829.66
Transmittal 3 | 54 | 970 | 0.08 | 4,188.64
Uniform Petition | 54 | 11,635 | 0.08 | 50,263.73
General Testimony | 54 | 11,635 | 0.33 | 207,337.88
Affidavit Paternity | 54 | 5818 | 0.17 | 53,405.21
Locate Data Sheet | 54 | 388 | 0.08 | 1,675.46
Notice of Controlling Order | 54 | 388 | 0.08 | 1,675.46
Registration Statement | 54 | 7,757 | 0.08 | 33,509.15

Estimated Total Annual Burden Hours: 676,675.44

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2013-15584 Filed 6-28-13; 8:45 am]

BILLING CODE 4184-01-P